ADMINISTRATIVE COMMITTEE OF THE FEDERAL REGISTER

1 CFR Part 11

RIN 3095-ZA03

Prices and Availability of Federal Register Publications

AGENCY: Administrative Committee of the Federal Register.

ACTION: Proposed rule.

SUMMARY: The Administrative Committee of the Federal Register proposes increases in the prices charged for the paper and microfiche editions of Federal Register publications. The price changes would apply to the daily Federal Register, the Federal Register Index and LSA (List of CFR Sections Affected), the Code of Federal Regulations, and the Weekly Compilation of Presidential Documents. The proposed price increases would enable the Government Printing Office to recover more of the costs of producing and distributing Federal Register publications.

DATES: Comments will be accepted through July 6, 2001.

ADDRESSES: Comments should be addressed to Michael White. Written comments may be submitted by U.S. mail to the Office of the Federal Register (NF), National Archives and Records Administration, 700 Pennsylvania Ave., NW., Washington, DC 20408-0001, or by private delivery services to the Office of the Federal Register, 800 North Capitol Street, NW., Suite 700, Washington, DC 20002. Comments may also be submitted by email to fedreg.legal@nara.gov, or by fax to 202-523-6866.

FOR FURTHER INFORMATION CONTACT: Michael White at 202-275-4292, ext. 275.

SUPPLEMENTARY INFORMATION:

Background

Under the Federal Register Act (44 U.S.C. Chapter 15), the Administrative Committee of the Federal Register is responsible for establishing the prices charged for Federal Register publications. Federal Register publications are sold and distributed to the public by the Government Printing Office's (GPO) Superintendent of Documents. The Administrative Committee periodically reviews data submitted by the Superintendent of Documents to determine whether subscription rates and single copy prices of Federal Register publications produce sufficient revenue to keep pace with GPO's printing, handling and distribution costs, as well as postal rate increases. GPO receives no appropriation for any of the costs associated with producing Federal Register publications. Sales revenue must support the cost of the sales program. The proposed price increases would enable the Government Printing Office to recover more of the costs of producing and distributing Federal Register publications.

The data submitted by the Superintendent of Documents indicates that sales revenue is insufficient to cover the program costs of certain Federal Register publications. The shortfall in sales revenue is attributable to declining paper subscriptions, increases in GPO employee pay scales and benefits, higher paper prices, and a 12.7 percent increase in postal rates in 2001. This proposed rule takes into account the actual production, handling and distribution costs for paper publications over the past year and projected costs for the remainder of 2001.

The Administrative Committee published its last price change regulation on February 23, 2000 (65 FR 8843). In this action, the Administrative Committee proposes to increase the subscription rates for the paper editions of the daily Federal Register, the Federal Register Index and LSA (List of CFR Sections Affected), the Code of Federal Regulations (CFR), and the Weekly Compilation of Presidential Documents. The single copy price of the daily Federal Register would also increase. The single copy price of the Weekly Compilation of Presidential Documents would remain the same.

Prices for the microfiche editions of the Federal Register and the CFR result from a competitive bidding process. The subscription rates would increase for the microfiche editions of the daily Federal Register and CFR. The single copy price for the microfiche editions of those publications would not change.

GPO has taken aggressive measures to achieve savings in its sales programs, such as reducing full time equivalent employee costs by 29 percent since 1994. However, in addition to the costs already cited, a number of other factors have combined to make it necessary to raise the price of paper publications. Part of the increase can be attributed to the rise in the volume of pages printed per subscription. The number of pages printed for each subscription to the Federal Register has increased by more than 10 percent since 1997 (66,934 pages in 1997 as compared with 77,234 pages in 2000). A sharp decline in the number of paid subscriptions has also contributed to the need for price increases. Since 1994, when the Administrative Committee began providing online access to the Federal Register, subscriptions have fallen by 73 percent. The decline in paper subscription revenue far exceeds the savings realized from reduced production costs. As a result, handling costs must be allocated over a much smaller base of orders, forcing increases in the prices of paper publications.

Subscribers who prefer the convenience of paper publications delivered to their place of business would bear a greater cost burden as a result of these price increases. But our customers also have free online access to Federal Register publications on the GPO Access service (http://www.access.gpo.gov/nara). The online customer base has expanded rapidly since free online service was introduced in late 1995. Information retrievals from the online edition of the Federal Register grew from just under 15 million documents in calendar year 1996 to over 61 million documents downloaded in calendar year 2000. Over the same period, information retrievals from the online edition of the CFR grew from about 725,000 documents to more than 93 million documents downloaded. Online Federal Register publications on GPO Access are now among the most frequently visited Federal web sites.

The success of the online publications demonstrates that the Administrative Committee is fulfilling its mission to provide the public with essential information on the functions, actions, and regulatory requirements of the Federal government. At the same time, the Administrative Committee is constantly engaged in efforts to improve the quality of our online publications, including investments in new technology applications that will enhance e-government services to the public. In addition, GPO recently took new steps to significantly increase server capacity to meet the growing demand for online access to Federal Register publications. For members of the public who prefer to read the printed editions, GPO continues to provide free access to Federal Register publications at Federal depository libraries located throughout the nation under funding provided by Congress.

The changes to subscription prices in this proposal amount to a 9.6 percent increase for the paper edition of the Federal Register and a 9.2 percent increase for the printed CFR. The subscription price of the Weekly Compilation of Presidential Documents would increase by 12 percent. The price changes are reflected in proposed amendments to 1 CFR part 11. The following rates would be effective after the issuance of the final rule. The annual subscription rate for the daily Federal Register paper edition would increase from $638 to $699. For a combined Federal Register, Federal Register Index and LSA (List of CFR Sections Affected) subscription, the rate would increase from $697 to $764. The price of a single copy of the daily Federal Register paper edition would increase from $9 to $10. The annual subscription rate for the microfiche edition of the Federal Register, which includes the Federal Register Index and LSA, would increase from $253 to $264. The annual subscription price for the Federal Register Index increases from $28 to $30. The annual subscription price for the monthly LSA would increase from $31 to $35. The annual subscription rate for a full set of the CFR paper edition would increase from $1094 to $1195. The annual subscription rate for the microfiche edition of the CFR would increase from $290 to $298. The annual subscription rates for the Weekly Compilation of Presidential Documents would increase from $92 to $103 for delivery by non-priority mail and from $151 to $169 for delivery by first-class mail.

Regulatory Analysis

Executive Order 12866

The proposed rule has been drafted in accordance with Executive Order 12866, section 1(b), “Principles of Regulation.” The Administrative Committee has determined that this proposed rulemaking is not a significant regulatory action, as defined under section 3(f) of Executive Order 12866.

Regulatory Flexibility Act

The Regulatory Flexibility Act, 5 U.S.C. 601 et seq., does not apply to rate increases necessary to recover the costs to the Government for printing and distributing Federal Register publications. This action would not have a significant impact on small entities since it would not impose any substantive requirements, and any increased costs could be avoided by accessing Federal Register publications through the free GPO Access service on the Internet or at a Federal depository library.

Federalism

This proposed rule has no Federalism implications under Executive Order 13132. It would not impose compliance costs on State or local governments or preempt State law.

List of Subjects in 1 CFR Part 11

Code of Federal Regulations, Federal Register, Government publications, Weekly Compilation of Presidential Documents.

For the reasons discussed in the preamble, the Administrative Committee of the Federal Register proposes to amend part 11 of chapter I of title 1 of the Code of Federal Regulations as set forth below:

PART 11—SUBSCRIPTIONS

1. The authority citation for part 11 continues to read as follows:

Authority: 44 U.S.C. 1506; sec. 6, E.O. 10530, 19 FR 2709, 3 CFR, 1954-1958 Comp., p. 189.

2. In § 11.2, revise paragraph (a) to read as follows:

§ 11.2 Federal Register.

(a) The subscription price for the paper edition of the daily Federal Register, including postage, is $699 per year. A combined subscription to the daily Federal Register, the monthly Federal Register Index, and the monthly LSA (List of CFR Sections Affected), including postage, is $764 per year for the paper edition, or $264 per year for the microfiche edition. Six-month subscriptions to the paper and microfiche editions are also available at one-half the annual rate. Limited quantities of current or recent issues may be purchased for $10 per copy for the paper edition, or $2 per copy for the microfiche edition.

* * * * *

3. In § 11.3, revise paragraph (a) to read as follows:

§ 11.3 Code of Federal Regulations.

(a) The subscription price for a complete set of the Code of Federal Regulations, including postage, is $1195 per year for the bound, paper edition, or $298 per year for the microfiche edition. The Government Printing Office sells individual volumes of the paper edition of the Code of Federal Regulations at prices determined by the Superintendent of Documents under the general direction of the Administrative Committee. The price of a single volume of the microfiche edition is $2 per copy.

* * * * *

4. In § 11.6, revise paragraph (a) to read as follows:

§ 11.6 Weekly Compilation of Presidential Documents.

(a) The subscription price for the paper edition of the Weekly Compilation of Presidential Documents is $103 per year for delivery by non-priority mail, or $169 per year for delivery by first-class mail. The price of an individual copy is $4.

* * * * *

5. Revise § 11.7 to read as follows:

§ 11.7 Federal Register Index.

The annual subscription price for the monthly Federal Register Index, purchased separately, in paper form, is $30.

6. Revise § 11.8 to read as follows:

§ 11.8 LSA (List of CFR Sections Affected).

The annual subscription price for the monthly LSA (List of CFR Sections Affected), purchased separately, in paper form, is $35.

By Order of the Committee.
Raymond A. Mosley,
Secretary, Administrative Committee of the Federal Register.

[FR Doc. 01-14217 Filed 6-5-01; 8:45 am]

BILLING CODE 1505-02-P